DEPARTMENT OF THE TREASURY

Office of Foreign Assets Control

[Case ID VENEZUELA-EO13850-15615]

Notice of OFAC Sanctions Actions

AGENCY: Office of Foreign Assets Control, Treasury.

ACTION: Notice

SUMMARY: The Department of the Treasury's Office of Foreign Assets Control (OFAC) is: (1) Providing notice of the sectoral determination by the Secretary of the Treasury pursuant to Executive Order 13850 (“Blocking Property of Additional Persons Contributing to the Situation in Venezuela”) (E.O. 13850); and (2) publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Actions

Sectoral Determination by the Secretary of the Treasury Pursuant to E.O. 13850

On January 28, 2019, the Secretary of the Treasury made the following determination:

Section 1(a) of E.O. 13850 imposes economic sanctions on any person determined by the Secretary of the Treasury, in consultation with the Secretary of State, to operate in such sectors of the Venezuelan economy as may be determined, pursuant to section 1(a)(i) of E.O. 13850, by the Secretary of the Treasury, in consultation with the Secretary of State.

To further address the extraordinary threat to the national security and foreign policy of the United States described in E.O. 13850, and in consultation with the Secretary of State, I hereby determine that section 1(a)(i) shall apply to the oil sector of the Venezuelan economy. Any person I or my designee subsequently determine, in consultation with the Secretary of State, operates in this sector shall be subject to sanctions pursuant to section 1(a)(i).

Blocking of Property and Interests in Property Pursuant to E.O. 13850

On January 28, 2019, OFAC determined that the property and interests in property subject to U.S. jurisdiction of the following person is blocked under the relevant sanctions authority listed below.

Entity

1. PETROLEOS DE VENEZUELA, S.A. (a.k.a. PDVSA; a.k.a. PETROLEOS DE VENEZUELA S A; a.k.a. PETROLEOS DE VENEZUELA S.A; a.k.a. REFINERIA EL PALITO), Edificio Petroleos De Venezuela, Torre Este, Piso 9, Avenida Libertador con calle El Empalme, La Campina, Caracas 1010, Venezuela; Torre Este Piso 9, Edif Petroleos de Venezuela, Avenida Libertador, Urb La Campina, Caracas, Distrito Federal, Venezuela; RIF # J-00095036-9 (Venezuela) [VENEZUELA-EO13850].

Designated pursuant to section 1(a)(i) of Executive Order 13850 of November 1, 2018, “Blocking Property of Additional Persons Contributing to the Situation in Venezuela” (E.O. 13850), for operating in the oil sector of the Venezuelan economy.

Dated: January 28, 2019.
Andrea Gacki,
Director, Office of Foreign Assets Control.

[FR Doc. 2019-01796 Filed 2-8-19; 8:45 am]

BILLING CODE 4810-AL-P